INTERNATIONAL TRADE COMMISSION

[Investigation No. 337-TA-852]

Certain Video Analytics Software, Systems, Components Thereof, and Products Containing Same; Notice of a Commission Determination Not To Review an Initial Determination Terminating the Investigation; Termination of the Investigation

AGENCY: U.S. International Trade Commission.

ACTION: Notice.

SUMMARY: Notice is hereby given that the U.S. International Trade Commission has determined not to review an initial determination (“ID”) (Order No. 7) of the presiding administrative law judge (“ALJ”) terminating the above-captioned investigation based on a settlement agreement.

FOR FURTHER INFORMATION CONTACT: Clint Gerdine, Esq., Office of the General Counsel, U.S. International Trade Commission, 500 E Street SW., Washington, DC 20436, telephone (202) 708-2310. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on July 31, 2012, based on a complaint filed by ObjectVideo, Inc. (“ObjectVideo”) of Reston, Virginia. 77 FR 45376. The complaint alleges violations of section 337 of the Tariff Act of 1930, as amended, 19 U.S.C. 1337, in the importation into the United States, the sale for importation, and the sale within the United States after importation of certain video analytics software systems, components thereof, and products containing same by reason of infringement of certain claims of the following U.S. Patent Nos: 6,696,945; 6,970,083; 7,868,912; and 7,932,923. The complaint further alleges the existence of a domestic industry. The Commission's notice of investigation named PELCO, Inc. (“PELCO”) of Clovis, California as the sole respondent. No Commission investigative attorney is participating in the investigation.

On November 8, 2012, ObjectVideo and PELCO moved to terminate the investigation based on a settlement agreement.

The ALJ issued the subject ID (Order No. 7) on November 27, 2012, granting the joint motion for termination of the investigation. He found that the motion satisfies Commission rules 210.21(a)(2) and (b)(1). He further found, pursuant to Commission rule 210.50(b)(2), that termination of this investigation is in the public interest. No party petitioned for review of the ID.

The Commission has determined not to review the ID, and has terminated the investigation.

The authority for the Commission's determination is contained in section 337 of the Tariff Act of 1930, as amended (19 U.S.C. 1337), and in sections 210.21 and 210.42(h) of the Commission's Rules of Practice and Procedure (19 CFR 210.21, 210.42(h)).

By order of the Commission.
Issued: December 18, 2012.
Lisa R. Barton,
Acting Secretary to the Commission.

[FR Doc. 2012-30818 Filed 12-20-12; 8:45 am]

BILLING CODE 7020-02-P